FEDERAL COMMUNICATIONS COMMISSION

47 CFR Parts 63 and 64

[IB Docket No. 04-226; FCC 05-91]

Mandatory Electronic Filing for International Telecommunications Services and Other International Filings

AGENCY: Federal Communications Commission.

ACTION: Final rule, announcement of effective date.

SUMMARY: This document announces the effective date of the rules published in the Federal Register on July 6, 2005. The rules eliminate paper filings and require applicants to file electronically all applications and other filings related to international telecommunications services that can be filed through the International Bureau Filing System (IBFS).

DATES: The amendments to 47 CFR 63.19(d), 63.21(a), 63.21(h), 63.21(i), 63.25(b), 63.25(c), 63.25(e), 63.53(a)(1), 63.53(a)(2), 63.701 introductory text and (j); 64.1001(a), 64.1001(f), 64.1002(c) and 64.1002(e) published at 70 FR 38795, July 6, 2005 are effective April 12, 2006.

FOR FURTHER INFORMATION CONTACT: Peggy Reitzel or JoAnn Ekblad, Policy Division, International Bureau, (202) 418-1460.

SUPPLEMENTARY INFORMATION: On May 11, 2005 the Commission released a Report and Order, a summary of which was published in the Federal Register. See 70 FR 38795 (July 6, 2005). We stated that the rules were effective on August 5, 2005 except for 47 CFR 63.19(d), 63.21(a), 63.21(h), 63.21(i), 63.25(b), 63.25(c), 63.25(e), 63.53(a)(1), 63.53(a)(2), 63.701 introductory text and (j); 64.1001(a), 64.1001(f), 64.1002(c) and 64.1002(e) which required approval by the Office of Management and Budget (OMB). The information collection requirements were approved by OMB. (See OMB Nos. 3060-0357, 3060-0454, 3060-0686, 3060-0944, 3060-1028, 3060-1029.) This publication satisfies our statement that the Commission would publish a document announcing the effective date of the rules.

Federal Communications Commission.
Marlene H. Dortch,
Secretary.

[FR Doc. 06-3506 Filed 4-11-06; 8:45 am]

BILLING CODE 6712-01-P